DEPARTMENT OF COMMERCE

National Oceanic and Atmospheric Administration

[I.D. 052803B]

Endangered and Threatened Species; Take of Anadromous Fish

AGENCY: National Marine Fisheries Service (NMFS), National Oceanic and Atmospheric Administration (NOAA), Commerce.

ACTION: Notice of availability and request for comment.

SUMMARY: Notice is hereby given that the Washington Department of Fish and Wildlife (WDFW) has submitted a Fisheries Management and Evaluation Plan (FMEP) pursuant to the protective regulations promulgated for Middle Columbia River (MCR) steelhead and Lower Columbia River (LCR) chinook salmon under the Endangered Species Act (ESA). The FMEP specifies the future management of inland recreational fisheries potentially affecting the MCR steelhead and LCR chinook salmon. This document serves to notify the public of the availability of the FMEP for review and comment before a final approval or disapproval is made by NMFS.

DATES: Written comments on the draft FMEPs must be received at the appropriate address or fax number (see ADDRESSES) no later than 5 p.m. Pacific daylight time on July 31, 2003.

ADDRESSES: Written comments and requests for copies of the draft FMEP should be addressed to Richard Turner, Salmon Recovery Division, Propagation, Tributary Fisheries, and Recovery Branch, 525 N.E. Oregon Street, Suite 510, Portland, OR 97232 or faxed to (503) 872-2737. The documents are also available on the Internet at http://www.nwr.noaa.gov/. Comments will not be accepted if submitted via e-mail or the Internet.

FOR FURTHER INFORMATION CONTACT: Richard Turner, Portland, OR, at phone number (503) 736-4737, or e-mail: rich.turner@noaa.gov.

SUPPLEMENTARY INFORMATION: This notice is relevant to the Middle Columbia River steelhead (Oncorhynchus mykiss) and Lower Columbia River chinook salmon (O. tshawytscha) Evolutionarily Significant Units (ESU).

Background

WDFW has submitted to NMFS an FMEP (Mid-Columbia Region) for inland recreational fisheries potentially affecting listed adult and juvenile MCR steelhead and LCR chinook salmon. These include fisheries occurring in the Little White Salmon, White Salmon, Klickitat, Walla Walla, and Yakima Rivers. The objective of the FMEP is to harvest known hatchery-origin steelhead and salmon and other fish species in a manner that does not jeopardize the survival and recovery of the MCR steelhead and the LCR chinook salmon ESUs. All fisheries included in the FMEP will be managed such that the retention of adult steelhead that are not externally marked (i.e., do not have the adipose fin clipped) will be prohibited. Only hatchery-origin steelhead that are adipose-fin clipped may be retained. Tule fall chinook from the LCR chinook salmon ESU will also be harvested in tributary recreational fisheries. Impact levels to listed MCR steelhead and LCR chinook salmon are specified in the FMEP. Population viability analysis and risk assessments in the FMEP indicate the extinction risk for listed steelhead and salmon under the proposed fishery impact levels to be low. A variety of monitoring and evaluation tasks are specified in the FMEP to assess the abundance of steelhead and salmon, determine fishery effort and catch of steelhead and salmon, and angler compliance. A review of compliance with the provisions of the FMEP will be conducted by WDFW annually and a comprehensive review to evaluate the effectiveness of the FMEP will occur at a minimum every 5 years.

Authority

Under section 4 of the ESA, the Secretary of Commerce is required to adopt such regulations as he deems necessary and advisable for the conservation of species listed as threatened. The ESA salmon and steelhead 4(d) rule specifies categories of activities that contribute to the conservation of listed salmonids and sets out the criteria for such activities. The rule further provides that the prohibitions of paragraph (a) of the rule will not apply to activities associated with fishery harvest provided that those fisheries are managed in accordance with an FMEP that has been approved by NMFS and implemented in accordance with a letter of concurrence from NMFS.

As specified in § 223.203 (b)(4) of the ESA 4(d) rule, NMFS may approve an FMEP if it meets criteria set forth in § 223.203 (b)(4)(i)(A) through (I). Prior to final approval of an FMEP, NMFS must publish notification announcing its availability for public review and comment.

Dated: June 23, 2003.
Phil Williams,
Chief, Endangered Species Division, Office of Protected Resources, National Marine Fisheries Service.

[FR Doc. 03-16569 Filed 6-30-03; 8:45 am]

BILLING CODE 3510-22-S